DEPARTMENT OF HEALTH AND HUMAN SERVICES

Centers for Disease Control and Prevention

[60Day-0920-0747]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Longitudinal follow-up of Youth with Attention-Deficit/Hyperactivity Disorder identified in Community Settings: Examining Health Status, Correlates, and Effects associated with treatment for Attention-Deficit/Hyperactivity Disorder [OMB #0920-0747 exp. 7/31/1010]—Revision—National Center on Birth Defects and Developmental Disabilities (NCBDDD), Centers for Disease Control and Prevention (CDC).

Background and Brief Description

This project will collect data from proxy respondents and youths with and without ADHD. This program addresses the Healthy People 2010 focus area of Mental Health and Mental Disorders, and describes the prevalence, incidence, long-term outcomes, treatment(s), select co-morbid conditions, secondary conditions, and health risk behavior of youth with ADHD relative to youth without ADHD.

The National Center on Birth Defects and Developmental Disabilities at CDC promotes the health of children with developmental disorders. As part of these efforts, two contracts were awarded in FY 2007-2010 to follow up a sample of children originally enrolled in community-based epidemiological research on ADHD among elementary-aged youth, known as the Project to Learn about ADHD in Youth (PLAY Study Collaborative), which informed community-based prevalence, rates of comorbidity, and rates of health risk behaviors among elementary-age youth with and without ADHD as determined by a rigorous case definition developed by the principal investigators and in collaboration with CDC scientists.

The purpose of the longitudinal follow-up program is to study the long-term outcomes and health status for children with Attention-Deficit/Hyperactivity Disorder (ADHD) identified and treated in community settings through a systematic follow-up of the subjects who participated in the PLAY Study Collaborative. There is a considerable interest in the long-term outcomes of youth with ADHD as well as the effects of treatment, lack of treatment, and quality of care in average US communities, emphasizing the public health importance of longitudinal research in this area.

Given the lack of detailed information about longitudinal development in children with and without ADHD, there is need to continue assessing the children into older adolescence. This program extends data collection for two additional waves.

Minor changes to the assessment instruments are planned in order to include age appropriate assessment of treatment and health risk behaviors in older adolescents, such as understanding motor vehicle operation and dating behavior.

There are no costs to the respondents other than their time.

Estimated Annualized Burden Hours
Survey instruments (by type of respondent) | Number of respondents | Number of responses/ respondent | Avg. burden/ response in hours | Total burden (in hours)
Parent:
ADHD Communication and Knowledge | 190 | 1 | 10/60 | 32
ADHD Treatment, Cost, and Client Satisfaction Questionnaire | 190 | 1 | 10/60 | 32
ADHD Treatment Questionnaire | 190 | 3 | 7/60 | 67
Brief Impairment Scale | 190 | 1 | 4/60 | 13
Critical School Events (Middle School) | 37 | 2 | 4/60 | 5
Critical School Events (High School) | 153 | 2 | 4/60 | 20
Demographic Survey | 190 | 1 | 5/60 | 16
Health Risk Behavior Survey (Middle School) 11-13 years | 37 | 1 | 18/60 | 14
Health Risk Behavior Survey High School, 14+ years | 153 | 1 | 22/60 | 71
Parent-Child Relationship Inventory | 190 | 1 | 15/60 | 48
Parents' Mental Health Questionnaire | 178 | 1 | 5/60 | 15
Quarterly update form | 190 | 3 | 1/60 | 10
Social Isolation/Support | 178 | 1 | 2/60 | 6
Strengths and Difficulties Questionnaire (SDQ) | 190 | 2 | 3/60 | 19
Vanderbilt Parent Rating Scale | 190 | 2 | 10/60 | 63
Child:
Brief Sensation Seeking Scale | 190 | 1 | 1/60 | 3
Conflict in Adolescent Dating Relationships | 153 | 1 | 10/60 | 26
Health Risk Behavior Survey (Middle School) 11-13 years | 37 | 1 | 30/60 | 19
Health Risk Behavior Survey (High School)14+ years | 153 | 1 | 45/60 | 115
MARSH—Self Description Questionnaire v I, 7-12 years | 15 | 1 | 15/60 | 4
MARSH—Self Description Questionnaire v II, 13-15 years | 90 | 1 | 20/60 | 30
MARSH—Self Description Questionnaire v III 16+ years | 85 | 1 | 20/60 | 28
Pediatric Quality of Life Child (8-12) | 15 | 1 | 5/60 | 1
Pediatric Quality of Life Teen (13+) | 175 | 1 | 5/60 | 15
Youth Demographic Survey, 16+ years | 85 | 1 | 1/60 | 1
Teacher:
Teacher Survey | 949 | 1 | 10/60 | 158
Total | 1317 |  |  | 831

Dated: September 17, 2009.
Maryam I. Daneshvar,
Acting Reports Clearance Officer, Centers for Disease Control and Prevention.

[FR Doc. E9-23027 Filed 9-23-09; 8:45 am]

BILLING CODE 4163-18-P